DEPARTMENT OF JUSTICE

Notice of Lodging of Consent Decree Under Comprehensive Environmental Response, Compensation and Liability Act

In accordance with Departmental policy, 28 CFR 50.7, notice is hereby given that a proposed consent decree in United States v. Sequa Corporation and John H. Thompson, C.A. No. 01-CV-4784 (E.D.Pa.), was lodged on September 20, 2001, with the United States District Court for the Eastern District of Pennsylvania. The consent decree resolves the United States' claims against defendants Sequa Corporation (“Sequa”) and John H. Thompson (“Thompson”) with respect to past response costs incurred through September 30, 1999, pursuant to Section 107 of the Comprehensive Environmental Response, Compensation and Liability Act, 42 U.S.C. 9607. The costs were incurred in connection with the Dublin TCE Site, located in the Borough of Dublin, Bucks County, Pennsylvania. Defendant Thompson owns the Site property, or a portion thereof, and defendant Sequa conducted manufacturing activities at the Site, which became contaminated with trichloroethylene.

Under the consent decree, defendants will pay the United States $3,200,000 in reimbursement of past response costs incurred in connection with the Site. Said amount will be paid within thirty (30) days after entry of the consent decree by the Court.

The Department of Justice will receive, for a period of thirty (30) days from the date of this publication, comments relating to the proposed consent decree. Comments should be addressed to the Acting Assistant Attorney General for the Environment and Natural Resources Division, Department of Justice, Washington, DC 20530, and should refer to United States v. Sequa Corporation and John H. Thompson, DOJ Reference No. 90-11-2-780.

The proposed consent decree may be examined at the Office of the United States Attorney, 615 Chestnut Street, Suite 1250, Philadelphia, Pennsylvania 19106; and the Region III Office of the Environmental Protection Agency, 1650 Arch Street, Philadelphia, Pennsylvania. A copy of the proposed decree may be obtained by mail from the Department of Justice Consent Decree Library, P.O. Box 7611, Washington, DC 20044. In requesting a copy, please refer to the referenced case and enclose a check in the amount of $7.75 (.25 cents per page production costs), payable to the Consent Decree Library.

Robert D. Brook,
Assistant Chief, Environmental Enforcement Section, Environment and Natural Resources Division.

[FR Doc. 01-25878 Filed 10-12-01; 8:45 am]

BILLING CODE 4410-15-M